DEPARTMENT OF JUSTICE

Notice of Lodging of Consent Decree Pursuant to the Comprehensive Environmental Response, Compensation, and Liability Act

In accordance with Departmental policy, the Department of Justice gives notice that a proposed consent decree with Fort James Operating Company (“Fort James”) in the case captioned United States and the State of Wisconsin v. Fort James Operating Company, Civil Action No. 02-C-0602 (E.D. Wis.) was lodged with the United States District Court for the Eastern District of Wisconsin on June 20, 2002. The complaint filed in the case by the United States and the State of Wisconsin (the “Plaintiffs”) alleges that Fort James is party liable for certain response costs associated with the release and threatened release of hazardous substances from facilities at or near the Fox River/Green Bay Site in northeastern Wisconsin (the “Site”), pursuant to the Comprehensive Environmental Response, Compensation, and Liability Act, 42 U.S.C. 9601 et seq.

The proposed consent decree sets forth the terms of a proposed settlement between the Plaintiffs and Fort James addressing both: (1) the claims for recovery of response costs that are included in the complaint; and (2) related claims for natural resource damages at the Site. The Oneida Tribe of Indians of Wisconsin and the Menominee Indian Tribe of Wisconsin are additional parties to the settlement, as Tribal trustees for injured natural resources at and near the Site.

Under the settlement, Fort James would agree to preserve more than 1000 acres of wildlife habitat in northeastern Wisconsin and pay an additional $8.5 million for other restoration projects as compensation for injuries to natural resources caused by widespread polychlorinated biphenyl (“PCB”) contamination at the Site. The Federal, State, and Tribal trustees that are parties to the Consent Decree have reviewed and approved the specific restoration projects described in an Appendix to the Consent Decree, and will jointly select future projects to be funded with additional money available under the settlement. In addition to its payments for restoration projects, Fort James would pay $1.6 million to help offset natural resource damage assessment costs and certain cleanup-related response costs incurred by the United States and the State.

For a period of thirty (30) days from the date of this publication, the Department of Justice will receive comments relating to the proposed consent decree. Comments should be addressed to the Assistant Attorney General, Environment and Natural Resources Division, United States Department of Justice, P.O. Box 7611, Washington, DC 20044-7611, and should refer to United States and the State of Wisconsin v. Fort James Operating Company, Civil Action No. 02-C-0602 (E.D. Wis.), and DOJ Reference Number 90-11-2-1045/1. A copy of the proposed consent decree may be examined at: (1) the Office of the United States Attorney for the Eastern District of Wisconsin, U.S. Courthouse and Federal Building—Room 530, 517 E. Wisconsin Avenue, Milwaukee, Wisconsin 53202 (contact Matthew Richmond (414-297-1700)); and (2) the U.S. Environmental Protection Agency (Region 5), 77 West Jackson Boulevard, Chicago, Illinois 60604 (contact Peter Felitti (312-886-5114)). Copies of the proposed consent decree may also be obtained by mail from the Department of Justice Consent Decree Library, PO Box 7611, Washington, DC 20044-7611. In requesting copies, please refer to the above-referenced case name and DOJ Reference Number, and enclose a check made payable to the Consent Decree Library for $15.25 (61 pages at 25 cents per page reproduction cost).

William D. Brighton,
Assistant Chief, Environmental Enforcement Section, Environment and Natural Resources Division.

[FR Doc. 02-16779 Filed 7-3-02; 8:45 am]

BILLING CODE 4410-15-M